DEPARTMENT OF COMMERCE

National Oceanic and Atmospheric Administration

50 CFR Part 679

RIN 0648-XD649

Fisheries of the Exclusive Economic Zone Off Alaska; Groundfish Fisheries in the Gulf of Alaska

AGENCY: National Marine Fisheries Service (NMFS), National Oceanic and Atmospheric Administration (NOAA), Commerce.

ACTION: Notice; intent to prepare an environmental impact statement; request for written comments.

SUMMARY: NMFS, in consultation with the North Pacific Fishery Management Council (Council), announces its intent to prepare an Environmental Impact Statement (EIS) on a new management program for trawl groundfish fisheries in the Gulf of Alaska (GOA), in accordance with the National Environmental Policy Act of 1969 (NEPA). The proposed action would create a new management program that would allocate allowable harvest to individuals, cooperatives, and other entities that participate in GOA trawl groundfish fisheries. The proposed action is intended to improve stock conservation by imposing accountability measures for utilizing target, incidental, and prohibited species catch, creating incentives to eliminate wasteful fishing practices, providing mechanisms for participants to control and reduce bycatch in the trawl groundfish fisheries, and to improve safety of life at sea and operational efficiencies. The EIS will analyze the impacts to the human environment resulting from the proposed trawl bycatch management program. NMFS will accept written comments from the public to identify the issues of concern and assist the Council in determining the appropriate range of management alternatives for the EIS.

DATES: Written comments will be accepted through August 28, 2015.

ADDRESSES: You may submit comments on this document, identified by NOAA-NMFS-2014-0150, by any of the following methods:

• Electronic Submission: Submit all electronic public comments via the Federal e-Rulemaking Portal. Go to www.regulations.gov/#!docketDetail;D=NOAA-NMFS-2014-0150, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

FOR FURTHER INFORMATION CONTACT: Rachel Baker, (907) 586-7228 or email rachel.baker@noaa.gov.

SUPPLEMENTARY INFORMATION: Under the Magnuson-Stevens Fishery Conservation and Management Act (Magnuson-Stevens Act), the United States has exclusive fishery management authority over all living marine resources found within the exclusive economic zone (EEZ). The management of these marine resources, with the exception of marine mammals and birds, is vested in the Secretary of Commerce (Secretary). The Council has the responsibility to prepare fishery management plans for the fishery resources that require conservation and management in the EEZ off Alaska. Management of the Federal groundfish fisheries in the GOA is carried out under the Fishery Management Plan for Groundfish of the Gulf of Alaska (FMP). The FMP, its amendments, and implementing regulations (found at 50 CFR part 679) are developed in accordance with the requirements of the Magnuson-Stevens Act and other applicable Federal laws and executive orders, notably the National Environmental Policy Act (NEPA) and the Endangered Species Act (ESA).

The Council is considering the establishment of a new management program for the GOA trawl groundfish fisheries. The proposed action would allocate allowable harvest of selected target and bycatch species to individuals, cooperatives, and other entities. The purpose of the program is to improve management of all species caught in the GOA trawl groundfish fisheries by creating vessel-level and/or cooperative-level incentives to avoid and reduce bycatch, and to create accountability measures for participants when utilizing target and bycatch species. The Council also intends for the program to improve operational efficiencies, reduce incentives to fish during unsafe conditions, and support the continued participation of coastal communities that are dependent on the fisheries. NMFS and the Council have determined the preparation of an EIS may be required for this action because some important aspects of the bycatch management program on target and bycatch species and their users may be uncertain or unknown and may result in significant impacts on the human environment not previously analyzed. Thus, NMFS and the Council are initiating scoping for an EIS in the event an EIS is needed.

NMFS and the Council are seeking information from the public through the EIS scoping process on the range of alternatives to be analyzed, and on the environmental, social, and economic issues to be considered in the analysis. Written comments generated during this scoping process will be provided to the Council and incorporated into the EIS for the proposed action.

Management of the GOA Trawl Groundfish Fisheries

The Council and NMFS annually establish biological thresholds and annual total allowable catch limits for groundfish species to sustainably manage the groundfish fisheries in the GOA. To achieve these objectives, NMFS requires vessel operators participating in GOA groundfish fisheries to comply with various restrictions, such as fishery closures, to maintain catch within specified total allowable catch limits. The GOA groundfish fishery restrictions also include measures that are intended to minimize catch of certain species, called prohibited species, which may not be retained for sale by the vessel harvesting groundfish. For example, current GOA groundfish fishery regulations require Pacific halibut prohibited species catch (PSC) to be discarded immediately after it is recorded, and Chinook salmon must be retained by the harvest vessel only until sampled by an observer. The GOA groundfish fishery restrictions also include PSC limits for Pacific halibut and Chinook salmon to constrain the amount of bycatch of these species in the groundfish fisheries. When harvest of prohibited species in a groundfish fishery reaches the specified PSC limit for that fishery, NMFS closes directed fishing for the target groundfish species, even if the total allowable catch limit for that species has not been harvested.

The GOA PSC limits are established on an annual basis by management area and are further apportioned by season, fishery category, gear, and operation type (e.g., catcher vessel or catcher/processor). This apportionment process ensures that halibut and Chinook salmon PSC limit is available for use in groundfish fisheries earlier in the year, but limits that use so that PSC remains to support other groundfish fisheries that occur later in the year. The limits assigned to each season reflect halibut PSC likely to be taken during specific seasons by specific fisheries.

For many years, the Council and NMFS have controlled the amount of fishing in the North Pacific Ocean by establishing scientifically-based harvest limits which ensure that fisheries are conservatively managed and do not exceed established biological thresholds. In addition to measures that control the amount of harvest, the Council and NMFS also implemented the license limitation program (LLP), which limits access to the groundfish, crab, and scallop fisheries in the GOA and the Bering Sea and Aleutian Islands. The LLP limits entry into federally managed fisheries. The groundfish LLP requires each vessel in the GOA to have an LLP license on board the vessel at all times while directed fishing for license limitation groundfish, with limited exemptions. The preamble to the final rule implementing the groundfish LLP provides a more detailed explanation of the rationale for specific provisions in the LLP (October 1, 1998; 63 FR 52642).

While the LLP limits the total number of vessels that can participate in the fishery, it does not limit harvest by individual vessels or assign exclusive harvest privileges to specific vessels or entities. This has led to a competitive derby fishery in the GOA groundfish fisheries with fishermen racing each other to harvest as much fish as they can before the annual catch limit or the PSC limit is reached and the fishery is closed for the season. A derby fishery relies on a fairly rigid management structure that is not adaptable to changes in weather, markets, or other operating considerations. Therefore, a derby fishery often results in shorter fishing seasons and unsafe fishing practices. It can also create a substantial disincentive for participants to take actions to reduce bycatch use and waste, particularly if those actions could reduce groundfish catch rates. In a derby fishery, participants who choose not to take actions to reduce bycatch and waste stand to gain additional groundfish catch by continuing to harvest at a higher bycatch rate, at the expense of any vessels engaged in bycatch avoidance.

Allocation of allowable harvests in the form of exclusive harvest privileges is a management approach that replaces the rigid management structure of a derby fishery with a flexible program that provides accountability and removes disincentives to controlling and reducing bycatch and waste. Allocating exclusive harvest privileges to fishery participants can mitigate the potential negative impacts of a derby fishery on target and bycatch species, and on the operational and economic efficiency of the fisheries. In this type of management approach, a portion of the catch for a species is allocated to individual fishermen or groups. Each holder of a harvest privilege must stop fishing when his/her specific share of the quota is reached. This removes the incentives for each participant to maximize catch rates to capture a larger share of the available catch before the fishery is closed. As a result, participants can make operational choices to improve fishing practices. These choices could include fishing in a slower and more efficient fashion, using modified gear with a lower harvest rate but which reduces bycatch, coordinating with other vessel operators to avoid areas of high bycatch, and processing fish in ways that yield increased value but which are possible only by slowing the pace of the fishery. This management approach allows fishermen to plan their fishing effort around the weather, markets, or other business considerations and allows other fishery dependent businesses to plan more effectively.

The Council has recommended, and NMFS has implemented, management programs in the EEZ off Alaska that allocate exclusive harvest privileges to fishery participants. Based on experience with these programs, the Council and NMFS have determined that allocating exclusive harvest privileges of target and bycatch species creates a structure for fishery participants to efficiently manage harvesting and processing activities that can result in reduced bycatch and improved utilization of groundfish fisheries. Additional information on these management programs is provided in the final rules implementing the American Fisheries Act in the Bering Sea (67 FR 79692, December 30, 2002), the Amendment 80 Program in the Bering Sea and Aleutian Islands (72 FR 52668, September 14, 2007), and the Rockfish Program in the Central GOA (76 FR 81248, December 27, 2011).

Over the past few years, the Council has recommended amendments to the FMP to reduce PSC in the GOA groundfish fisheries. Under Amendments 93 and 97 to the FMP, the Council recommended and NMFS implemented Chinook salmon PSC limits in the GOA trawl fisheries (77 FR 42629, July 20, 2012 and 79 FR 71350, December 2, 2014). Under Amendment 95 to the FMP, the Council recommended and NMFS implemented reductions to halibut PSC limits for GOA trawl and hook-and-line fisheries (79 FR 9625, February 20, 2014). This series of actions reflects the Council's commitment to reduce PSC in the GOA groundfish fisheries. The Council also recognizes that although the current management system of establishing and apportioning PSC limits places a cap on the amount of PSC that may be used in GOA groundfish fisheries, the derby fishery under the LLP creates a substantial disincentive for participants to take actions to avoid and reduce PSC usage.

In October 2012, the Council unanimously adopted a purpose and need statement, and goals and objectives, to support the development of a new management program that would allocate allowable harvest to individual, cooperatives, or other entities. The Council determined that this kind of management program would mitigate the adverse effects of the current derby-style race for fish by removing disincentives to reduce bycatch and PSC, and providing a more flexible and efficient management system for participants to better manage and utilize groundfish species in the GOA trawl fisheries. This new management program is referred to as a bycatch management program in the following sections of this notice.

Proposed Action

The proposed action to be analyzed in the EIS is a bycatch management program for the GOA trawl groundfish fisheries that allocates allowable harvest to individuals, cooperatives, or other entities. The bycatch management program would replace the derby fishery with a program that provides tools to effectively manage bycatch and reduce PSC use, and that promotes increased utilization of groundfish harvested in the GOA. The proposed action would apply to participants in Federal groundfish fisheries prosecuted with trawl gear in the following areas: (1) The Western GOA Regulatory Area (Western GOA), (2) the Central GOA Regulatory Area (Central GOA), and (3) the West Yakutat District of the Eastern GOA Regulatory Area (West Yakutat District). These areas are defined at § 679.2 and shown in Figure 3 to 50 CFR part 679.

Alternatives

NMFS, in coordination with the Council, will evaluate a range of alternative bycatch management programs for the trawl groundfish fisheries in the Western GOA, Central GOA, and West Yakutat District. NMFS and the Council recognize that implementation of a GOA trawl bycatch management program allocating exclusive harvest privileges would result in substantial changes to many of the current management measures for the groundfish fisheries. The EIS will analyze these changes as well as alternative ways to manage target and bycatch species in the GOA groundfish fisheries. The potential alternatives already identified for the EIS include:

Alternative 1

The existing management program (no action).

Alternative 2

A bycatch management program that would allocate exclusive harvest privileges to participants in the Western GOA, Central GOA, and West Yakutat District trawl groundfish fisheries who voluntarily join a cooperative. Participants who do not choose to join a cooperative would have the opportunity to participate in the current limited access management system under the groundfish LLP.

In Alternative 2, the Council is considering allocating exclusive harvest privileges to cooperatives. Alternative 2 contains several elements and options for determining eligible participants, groundfish and PSC species to be allocated, and methods for determining allocations to cooperatives and the limited access fishery. Alternative 2 also includes elements and options for cooperative formation and membership that are intended to provide incentives for participation by harvesters and processors to improve coordination and operational efficiencies. Alternative 2 also contains a number of elements that are intended to provide for fishery dependent community stability, such as harvest privilege consolidation limits and area- and port-specific delivery requirements.

Alternative 3

A bycatch management program that would allocate exclusive harvest privileges to fishery participants who voluntarily join a cooperative and either 1) a Community Fishing Association as defined in section 303A(c)(3) of the Magnuson-Stevens Act or 2) an Adaptive Management Program. Participants who do not choose to join a cooperative would have the opportunity to participate in the current limited access management system under the groundfish LLP.

In Alternative 3, the Council is considering allocating exclusive harvest privileges to cooperatives and either a Community Fishing Association or to persons who meet the criteria established for an Adaptive Management Program. The allocation to a Community Fishing Association or Adaptive Management Program would meet objectives that include providing for sustained participation of fishing communities, promoting conservation measures, and assisting vessel owner-operators, captains, and crew who want to enter and participate in the GOA trawl groundfish fisheries.

Public Involvement

Scoping is an early and open process for determining the scope of issues to be addressed in an EIS and for identifying the significant issues related to the proposed action. A principal objective of the scoping and public involvement process is to identify a range of reasonable management alternatives that, with adequate analysis, will delineate critical issues and provide a clear basis for distinguishing among those alternatives and selecting a preferred alternative. Through this notice, NMFS is notifying the public that an EIS and decision-making process for this proposed action have been initiated so that interested or affected people may participate and contribute to the final decision.

NMFS is seeking written public comments on the scope of issues, including potential impacts, and alternatives that should be considered for bycatch management programs for the trawl groundfish fisheries in the Western GOA, Central GOA, and West Yakutat District of the GOA. Written comments should be as specific as possible to be the most helpful. Written comments received during the scoping process, including the names and addresses of those submitting them, will be considered part of the public record of this proposal and will be available for public inspection. Written comments will be accepted at the address above (see ADDRESSES). Please visit the NMFS Alaska Region Web site at http://www.alaskafisheries.noaa.gov for more information on the GOA trawl bycatch management program EIS and for guidance on submitting effective written public comments.

The public is invited to participate and provide input at Council meetings where the latest scientific information regarding the GOA groundfish fisheries is reviewed and alternative bycatch management programs are developed and evaluated. Notice of future Council meetings will be published in the Federal Register and on the Internet at http://www.npfmc.org/. Please visit this Web site for information and guidance on participating in Council meetings. Additional information on the Council's development of the GOA trawl bycatch management program is available at http://www.npfmc.org/goa-trawl-bycatch-management/.

Authority: 16 U.S.C. 1801 et seq.

Dated: July 8, 2015.
Emily H. Menashes,
Acting Director, Office of Sustainable Fisheries, National Marine Fisheries Service.

[FR Doc. 2015-17191 Filed 7-13-15; 8:45 am]

BILLING CODE 3510-22-P